NATIONAL INDIAN GAMING COMMISSION

25 CFR Part 542

RIN 3141-AA24

Minimum Internal Control Standards

AGENCY: National Indian Gaming Commission.

ACTION: Proposed rule: Notice of extension of time.

SUMMARY: On April 23, 2002, the National Indian Gaming Commission (Commission) reopened the comment period on proposed revisions to the Minimum Internal Control Standards, 66 FR 66500 (December 26, 2001) for the limited purpose of giving small entities an opportunity to comment on the Commission's certification that the proposed revisions will not have a significant economic impact on them. Upon request from tribes, the date for filing comments is being extended.

DATES: Comments shall be filed on or before May 30, 2002.

ADDRESSES: Send comments by mail, facsimile, or hand delivery to: Minimum Internal Control Standards, Revision Comments, National Indian Gaming Commission, Suite 9100, 1441 L Street, NW., Washington, DC 20005. Fax number: 202-632-7066 (not a toll-free number). Public comments may be delivered or inspected from 9 a.m. until noon and from 2 p.m. to 5 p.m. Monday through Friday.

FOR FURTHER INFORMATION CONTACT: Michele F. Mitchell at 202-632-7003 or, by fax, at 202-632-7066 (these are not toll-free numbers).

SUPPLEMENTARY INFORMATION: The Indian Gaming Regulatory Act (“IGRA” or “Act”) 25 U.S.C. 2701-2721, enacted on October 17, 1988, established the National Indian Gaming Commission (Commission). The Commission published proposed revisions to its existing Minimum Internal Control Standards on December 26, 2001. 66 FR 66500. The Commission received numerous comments on the proposed rule. As a result of one of the comments received, the Commission determined that certain Indian gaming operations, if they meet specific definitional criteria, might qualify as “small entities,” under the Regulatory Flexibility Act (RFA). 5 U.S.C. 601(3). As a result of requests from potentially affected tribes, the Commission has agreed to extend the deadline for comment by one week. The public comment period will now end on May 30, 2002.

Dated: May 21, 2002.
Kevin K. Washburn,
General Counsel, National Indian Gaming Commission.

[FR Doc. 02-13309 Filed 5-28-02; 8:45 am]

BILLING CODE 7565-01-P